FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 30, 2010.

A. Federal Reserve Bank of Chicago (Colette A. Fried, Assistant Vice President) 230 South LaSalle Street, Chicago, Illinois 60690-1414:

1. Fred Diefenbaugh, Huntington, Indiana; to retain control of the voting shares of Bippus State Corporation, and thereby indirectly retain control of Bippus State Bank, both of Huntington, Indiana.

Board of Governors of the Federal Reserve System, November 10, 2010.
Robert deV. Frierson,
Deputy Secretary of the Board.

[FR Doc. 2010-28757 Filed 11-15-10; 8:45 am]

BILLING CODE 6210-01-P